DEPARTMENT OF COMMERCE

International Trade Administration

[A-570-933]

Frontseating Service Valves From the People's Republic of China: Extension of Time for the Preliminary Results of the Antidumping Duty Administrative Review

AGENCY: Import Administration, International Trade Administration, Department of Commerce.

DATES: Effective Date: January 7, 2011.

FOR FURTHER INFORMATION CONTACT: Laurel LaCivita, AD/CVD Operations, Office 8, Import Administration, International Trade Administration, U.S. Department of Commerce, 14th Street and Constitution Avenue, NW., Washington, DC 20230; telephone: (202) 482-4243.

SUPPLEMENTARY INFORMATION:

Background

On May 28, 2010, the Department of Commerce (“the Department”) published in the Federal Register a notice of initiation of an administrative review of the antidumping duty order on frontseating service valves for Zhejiang Sanhua Co., Ltd. and Zhejiang DunAn Hetian Metal Co., Ltd. for the period October 22, 2008, through March 31, 2010.¹ Currently, the preliminary results of review are due no later than December 31, 2010. Because December 31, 2010, falls on a Federal holiday, a non-business day, the deadline for the preliminary results reverts to January 3, 2011, the next business day following the Federal holiday.²

¹ See Initiation of Antidumping and Countervailing Duty Administrative Reviews, 75 FR 29976 (May 28, 2010).

² See Notice of Clarification: Application of “Next Business Day” Rule for Administrative Determination Deadlines Pursuant to the Tariff Act of 1930, As Amended, 70 FR 24533 (May 10, 2005) (“Next Business Day Rule”).

Extension of Time Limit of Preliminary Results

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

We determine that completion of the preliminary results of this review within the 245-day period is not practicable because the Department requires additional time to analyze information pertaining to the respondent's sales practices, factors of production, and to issue and review responses to supplemental questionnaires. Therefore, we require additional time to complete these preliminary results. As a result, in accordance with section 751(a)(3)(A) of the Act, the Department is extending the time period for completion of the preliminary results of this review by 120 days until April 30, 2011. However, April 30, 2011, falls on a weekend, and it is the Department's long-standing practice to issue a determination on the next business day when the statutory deadline falls on a weekend.³ Accordingly, the deadline for completion of the preliminary results of the review is now no later than May 2, 2011.

³ See Next Business Day Rule.

This notice is published in accordance with sections 751(a)(3)(A) and 777(i) of the Act.

Dated: December 30, 2010.
Christian Marsh,
Deputy Assistant Secretary for Antidumping and Countervailing Duty Operations.

[FR Doc. 2011-62 Filed 1-6-11; 8:45 am]

BILLING CODE 3510-DS-P